DEPARTMENT OF TRANSPORTATION

National Highway Traffic Safety Administration

[U.S. DOT Docket No. NHTSA-2010-0157]

Reports, Forms, and Record Keeping Requirements

AGENCY: National Highway Traffic Safety Administration, DOT.

ACTION: Request for public comment on proposed revision of the previously approved collection of information, OMB #2127-0646.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before February 7, 2011.

ADDRESSES: You may submit comments identified by DOT Docket ID Number NHTSA-2010-0157 using any of the following methods:

Electronic submissions: Go to http://www.regulations.gov. Follow the on-line instructions for submitting comments.

Mail: Docket Management Facility, M-30, U.S. Department of Transportation, 1200 New Jersey Avenue, SE., West Building Ground Floor, Room W12-140, Washington, DC 20590.

Hand Delivery: West Building Ground Floor, Room W12-140, 1200 New Jersey Avenue, SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Mr. Alan Block, Contracting Officer's Technical Representative, Office of Behavioral Safety Research (NTI-131), National Highway Traffic Safety Administration, 1200 New Jersey Avenue, SE., W46-499, Washington, DC 20590. Mr. Block's phone number is 202-366-6401 and his e-mail address is alan.block@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed revision of the previously approved collection of information, OMB #2127-0646:

Evaluation Surveys for Impaired Driving and Seat Belt Interventions

Type of Request—Revision of the previously approved collection of information.

OMB Clearance Number—2127-0646.

Form Number—NHTSA 1010, NHTSA 1011.

Requested Expiration Date of Approval—3 years from date of approval.

Summary of the Collection of Information—The National Highway Traffic Safety Administration (NHTSA) proposes to conduct telephone surveys to evaluate interventions designed to increase seat belt use and reduce alcohol-impaired driving. Sample sizes would range from 200 to 2000 depending on the geographic unit being surveyed (Nation, Region, State, Community) and the evaluation design for the intervention (e.g., number of analytic groups). Interview length would be 10 minutes. The surveys would collect information on attitudes, awareness, knowledge, and behavior related to the intervention. The surveys would follow a pre-post design where they are administered prior to the implementation of the intervention and after its conclusion. Interim survey waves may also be administered if the duration of the intervention permits.

In conducting the proposed surveys, the interviewers would use computer-assisted telephone interviewing to reduce interview length and minimize recording errors. The proposed surveys would be anonymous.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

The heavy toll that alcohol-impaired driving exacts on the nation in fatalities, injuries, and economic costs is well documented. In addition, non-use of seat belts continues to contribute significantly to the number of traffic fatalities. The persistence of these traffic safety problems points to an ongoing need for effective interventions to address alcohol-impaired driving and non-use of seat belts. This in turn calls for strong evaluation efforts to identify what interventions are effective.

The Safe, Accountable, Flexible, Efficient Transportation Equity Act: A Legacy For Users (SAFETEA-LU) is a funding and authorization bill that governs United States federal Surface Transportation spending. Signed into law in 2005, sections within the law have stimulated heightened program activity to reduce alcohol-impaired driving and increase seat belt use. Under section 410 of SAFETEA-LU, spending authority for State grants to implement alcohol-impaired driving countermeasures rose from slightly under $40 million in 2005 to $139 million in 2009. To be eligible for the grants, States had to carry out a specified number of programs from the following list: Statewide checkpoints and/or saturation patrols, prosecution and adjudication outreach programs, increased rate of BAC testing of drivers in fatal crashes, stronger sanctions for high-risk drivers with BACs of 0.15 percent or more, effective alcohol rehabilitation for repeat offenders or a program to refer them to DWI courts, underage drinking prevention programs, administrative license suspension or revocation for DUI, and self-sustaining impaired driving prevention programs. Section 406 of SAFETEA-LU set the funding authority for State seat belt performance grants at $124.5 million per year between 2006 and 2009. States were eligible for the grants based on specified seat belt performance criteria. Under Section 405 of SAFETEA-LU, funding authority for State occupant protection incentive grants increased from $19.84 million in 2005 to $25 million in 2009. Grant eligibility was based on specified criteria regarding the presence of occupant protection programs, laws, and associated penalties for violation. Use of grant funds was restricted to implementing and enforcing occupant protection programs. Section 2009 of SAFETEA-LU established a new program to administer at least 2 high visibility enforcement programs to increase seat belt use and/or reduce alcohol-impaired or drug-impaired driving. Grant funds could be used for the development, production, and use of broadcast and print media in carrying out traffic safety law enforcement campaigns.

Funding of these programs has continued with extension of SAFETEA-LU into fiscal years 2010 and 2011. NHTSA needs to be prepared for inclusion of the programs in the upcoming Surface Transportation Reauthorization. This means maintaining a strong evaluation program that monitors the effectiveness of intervention models being implemented under this funded intervention activity, and identifies where changes are needed. Telephone surveys have been an important component in NHTSA's evaluation activity. They have been used to measure public awareness of intervention campaigns, penetration of campaign messages, and perceived risk of negative consequences from engaging in proscribed behavior. The surveys have typically followed a pre-post design, where differences between an initial baseline survey wave and a later survey wave were associated with an intervening intervention. NHTSA has found such surveys to be valuable in assessing the multi-million dollar national media campaigns conducted for the National Alcohol Crackdowns and the National Click It or Ticket Mobilizations. They also have been useful in evaluating localized programs that tested variants of intervention models by providing information to assess campaign communications or interpret collected behavioral measures. With seat belt and impaired driving intervention activity anticipated to remain heavy for the foreseeable future, there is a need for NHTSA to continue to apply these data collection techniques to see if the campaigns are achieving their objectives.

Description of the Likely Respondents (Including Estimated Number, and Proposed Frequency of Response to the Collection of Information)—Over the next 3 years, NHTSA intends to conduct National telephone surveys to collect data from 36,000 participants. For the National Alcohol Crackdown, 2 sets of pre/post intervention surveys, each with sample sizes of 1,500, will be administered annually for 3 years. Similarly, for the National Click It or Ticket Mobilization, 2 sets of pre/post intervention surveys, each with sample sizes of 1,500, will be administered annually for 3 years.

In conducting one or more of the National surveys, NHTSA may have a need to collect information to assess localized activity associated with the National Alcohol Crackdown or National Click It or Ticket Mobilization. This would involve augmentation of the pre- and post-national sample with one or more Regional, State, or Community samples. These samples will range from 200 to 2,000. Typically they will be approximately 500. NHTSA intends to complete a maximum of 24,000 of these localized interviews over the next three years.

In addition to the surveys associated with the National Alcohol Crackdown and National Click It or Ticket Mobilization, NHTSA intends to conduct telephone surveys to assess selected demonstrations of interventions designed to reduce alcohol-impaired driving and/or increase seat belt use. The surveys will follow a pre-post design. Interventions sustained over an extended period of time may add one or more interim survey waves. Typically, a State demonstration survey will require 500 participants per survey wave. A regional demonstration can range from as few as 200 participants for a small county to 2,000 participants for a Region covering more than one State. NHTSA intends to complete a maximum of 40,800 of these interviews over the next three years.

Interviews will be conducted with persons at residential phone numbers selected using random digit dialing. For interviews conducted with persons using landline phones, no more than one respondent per household will be selected. For interviews conducted with persons on cell phones, a single user of the cell phone will be selected. Each sample member will complete just one interview. Businesses are ineligible for the sample and would not be interviewed.

Estimate of the Total Annual Reporting and Record Keeping Burden Resulting from the Collection of Information—NHTSA estimates that respondents in the sample would require an average of 10 minutes to complete the telephone interviews. The annual estimated reporting burden on the general public for the National surveys would be a maximum of 2,000 hours to conduct 12,000 interviews. Over the requested three year period, this would be 6,000 hours to conduct 36,000 interviews. The annual estimated reporting burden on the general public for the localized Crackdown and Mobilization surveys would be a maximum of 1,333.33 hours to conduct 8,000 interviews. Over the requested three year period, this would be 4,000 hours to conduct 24,000 interviews. The annual estimated reporting burden on the general public for the demonstration project surveys would be a maximum of 2,266.67 hours to conduct 13,600 interviews. Over the requested three year period, this would be 6,800 hours to conduct 40,800 interviews. In total, the annual estimated reporting burden on the public would be a maximum of 5,600 hours to conduct 33,600 interviews. Over the requested three year period this would be 16,800 hours to conduct 100,800 interviews. The respondents would not incur any reporting cost from the information collection. The respondents also would not incur any record keeping burden or record keeping cost from the information collection.

Authority: 44 U.S.C. Section 3506(c)(2)(A)

Jeffrey Michael,
Associate Administrator, Research and Program Development.

[FR Doc. 2010-30975 Filed 12-8-10; 8:45 am]

BILLING CODE 4910-59-P